DEPARTMENT OF ENERGY

Geothermal Resource Exploration and Definition GRED-III

AGENCY: Golden Field Office, U.S. Department of Energy.

ACTION: Notice of issuance of funding announcement number DE-PS36-04-GO94016.

SUMMARY: The Department of Energy's (DOE) Office of Energy Efficiency and Renewable Energy (EERE) is seeking financial assistance applications for the third Geothermal Resource Exploration and Definition (GRED III) Program. The regulations governing the funding opportunity for this program are contained in 10 CFR part 600. The Geothermal Technologies Program (GTP) is authorized under provisions of the Geothermal Energy Research, Development, and Demonstration Act of 1976, Pub. L. 93-410; Renewable Energy and Energy Efficiency Technology Competitiveness Act of 1989, Pub. L. 101-218; and the Energy Policy Act of 1992, Pub. L. 102-486, Title XII. The Catalog of Federal Domestic Assistance (CFDA) Number for this Announcement is 81.087. In the period since enactment of the legislation, DOE has supported an ongoing program to develop commercially viable geothermal technologies. Through this Funding Opportunity Announcement (FOA), DOE intends to provide financial support for the exploration and definition of new geothermal resources which will ultimately lead to more electrical generation and direct-use applications from geothermal resources. Past GRED projects under GRED I and GRED II confirmed over 50 Mega Watts of geothermal resources in the western United States.

DATES: Issuance of the announcement was March 22, 2004.

ADDRESSES: To obtain a copy of the announcement, interested parties should access the DOE Golden Field Office Home Page at http://www.go.doe.gov/business.html, click on “Solicitations,” and then access the announcement number identified above. The Golden Home Page will provide a link to the announcement number in the Industry Interactive Procurement System (IIPS) web site and provide instructions on using IIPS. The announcement can also be obtained directly through IIPS at http://e-center.doe.gov by browsing opportunities by Contract Activity, for those announcements issued by the Golden Field Office. DOE will not issue paper copies of the announcement.

IIPS provides the medium for disseminating announcements, receiving financial assistance applications, and evaluating the applications in a paperless environment. The application may be submitted by the applicant or a designated representative that receives authorization from the applicant; however, the application documentation must reflect the name and title of the representative authorized to enter the applicant into a legally binding agreement. The applicant or the designated representative must first register in IIPS, entering their first name and last name, then entering the company name/address of the applicant.

For questions regarding the operation of IIPS, contact the IIPS Help Desk at IIPS_HelpDesk@e-center.doe.gov or at (800) 683-0751.

FOR FURTHER INFORMATION CONTACT: Questions regarding this announcement should be submitted electronically through IIPS by “submitting a question” on the IIPS “Finanicial Assistance Form” specific to this announcement. Response to questions will be posted on IIPS and available through “View Questions.”

Issued in Golden, Colorado, on March 22, 2004.
Jerry L. Zimmer,
Director, Office of Acquisition and Financial Assistance.

[FR Doc. 04-7573 Filed 4-2-04; 8:45 am]

BILLING CODE 6450-01-P